DEPARTMENT OF THE INTERIOR

National Park Service

[NPS-WASO-NAGPRA-NPS0024011; PPWOCRADN0-PCU00RP14.R50000]

Notice of Intent To Repatriate Cultural Items: Science Museum of Minnesota, St. Paul, MN

AGENCY: National Park Service, Interior.

ACTION: Notice.

SUMMARY: The Science Museum of Minnesota, in consultation with the appropriate Indian Tribes or Native Hawaiian organizations, has determined that the cultural items listed in this notice meet the definition of sacred objects and objects of cultural patrimony. Lineal descendants or representatives of any Indian Tribe or Native Hawaiian organization not identified in this notice that wish to claim these cultural items should submit a written request to the Science Museum of Minnesota. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Science Museum of Minnesota at the address in this notice by September 29, 2017.

ADDRESSES: Edward Fleming, Science Museum of Minnesota, 120 West Kellogg Boulevard, St. Paul, MN 55102, telephone (651) 221-4576, email efleming@smm.org.

SUPPLEMENTARY INFORMATION: Notice is here given in accordance with the Native American Graves Protection and Repatriation Act (NAGPRA), 25 U.S.C. 3005, of the intent to repatriate cultural items under the control of the Science Museum of Minnesota, St. Paul, MN, that meet the definition of sacred objects and objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In July of 1958, two cultural items were removed from the Nett Lake region in Koochiching and St. Louis Counties, MN. Karen Peterson, a Science Museum of Minnesota affiliate, purchased the items on the Museum's behalf. One item, a drum, was purchased from Mrs. Ray Drift. The other item, a drumstick, was purchased from Mr. Walter Drift. Both sellers were members of the Bois Forte Band (Nett Lake), one of six reservations that, together, comprise the Minnesota Chippewa Tribe, Minnesota. The two items go together. The two sacred objects/objects of cultural patrimony are one drum and one drumstick.

Museum accession, catalogue, collector notes and purchase records, as well as consultation with representatives of the Bois Forte Band (Nett Lake) of the Minnesota Chippewa Tribe, Minnesota, indicate that the two cultural objects are Ojibwe, are from the Nett Lake Reservation, MN, and are sacred objects and objects of cultural patrimony. On April 18, 2017, Science Museum of Minnesota officials met with members of the Bois Forte Band. Elders, spiritual advisors, and five drum-keepers from the Bois Forte Band were present at the meeting, and each in turn explained the spiritual and sacred importance of drums both to the Ojibwe in general, and to the Bois Forte Band in particular. According to the group, drums are treated as living beings, and are cared for by a drum-keeper as long as that drum-keeper is able. If a drum-keeper can no longer care for a drum, it is passed on to another drum-keeper. Supernatural beings bestow the honor and duty of caring for a drum through dreams and visions. Ceremonial songs and dances associated with drums are similarly revealed. According to the informants' testimonies, the investiture and traditional religious practices of drum-keepers, and the drums used in such practices are central to Ojibwe religion and the Bois Forte Band. Drums made by this community belong to the community, and are not the property of drum-keepers or any other custodian. According to the elders, spiritual advisors, and drum-keepers present during consultation, the drum and drumstick should never have been sold, and should be returned.

Determinations Made by the Science Museum of Minnesota

Officials of the Science Museum of Minnesota have determined that:

• Pursuant to 25 U.S.C. 3001(3)(C), the two cultural items described above are specific ceremonial objects needed by traditional Native American religious leaders for the practice of traditional Native American religions by their present-day adherents.

• Pursuant to 25 U.S.C. 3001(3)(D), the two cultural items described above have ongoing historical, traditional, or cultural importance central to the Native American group or culture itself, rather than property owned by an individual.

• Pursuant to 25 U.S.C. 3001(2), there is a relationship of shared group identity that can be reasonably traced between the sacred objects and objects of cultural patrimony and the Bois Forte Band (Nett Lake) of the Minnesota Chippewa Tribe, Minnesota.

Additional Requestors and Disposition

Lineal descendants or representatives of any Indian Tribe or Native Hawaiian organization not identified in this notice that wish to claim these cultural items should submit a written request with information in support of the claim to Edward Fleming, Science Museum of Minnesota, 120 West Kellogg Boulevard, St. Paul, MN 55102, telephone (651) 221-4576, email efleming@smm.org, by September 29, 2017. After that date, if no additional claimants have come forward, transfer of control of the sacred objects and objects of cultural patrimony to the Bois Forte Band (Nett Lake) of the Minnesota Chippewa Tribe, Minnesota, may proceed.

The Science Museum of Minnesota is responsible for notifying the Bois Forte Band (Nett Lake) of the Minnesota Chippewa Tribe, Minnesota, that this notice has been published.

Dated: August 15, 2017.
Sarah Glass,
Acting Manager, National NAGPRA Program.

[FR Doc. 2017-18345 Filed 8-29-17; 8:45 am]

BILLING CODE 4312-52-P